SMALL BUSINESS ADMINISTRATION

[Disaster Declaration #21163 and #21164; OREGON Disaster Number OR-20010]

Administrative Declaration of a Disaster for the State of Oregon

AGENCY: U.S. Small Business Administration.

ACTION: Notice.

SUMMARY: This is a notice of an Administrative declaration of a disaster for the State of Oregon dated June 24, 2025.

Incident: Severe Storms, Flooding, Landslides and Mudslides.

Incident Period: March 13, 2025, through March 20, 2025.

DATES: Issued on June 24, 2025.

Physical Loan Application Deadline Date: August 25, 2025.

Economic Injury (EIDL) Loan Application Deadline Date: March 24, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Douglas.

Contiguous Counties:

Oregon: Coos, Curry, Jackson, Josephine, Klamath, Lane.

The Interest Rates are:

| Percent
For Physical Damage:
Homeowners with Credit Available Elsewhere | 5.500
Homeowners without Credit Available Elsewhere | 2.750
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 211636 and for economic injury is 211640.

The State which received an EIDL Declaration is Oregon.

(Catalog of Federal Domestic Assistance Number 59008)

James Stallings,
Associate Administrator, Office of Disaster Recovery and Resilience.

[FR Doc. 2025-11917 Filed 6-26-25; 8:45 am]

BILLING CODE 8026-09-P